ENVIRONMENTAL PROTECTION AGENCY

[EPA-HQ-OPP-2017-0466; FRL-9966-85]

Notice of Receipt of Requests To Voluntarily Cancel Certain Pesticide Registrations and Amend Registrations To Terminate Certain Uses—30-Day Comment Period

AGENCY: Environmental Protection Agency (EPA).

ACTION: Notice.

SUMMARY: In accordance with the Federal Insecticide, Fungicide, and Rodenticide Act (FIFRA), EPA is issuing a notice of receipt of requests by pesticide registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before November 2, 2017.

ADDRESSES: Submit your comments, identified by docket identification (ID) number EPA-HQ-OPP-2017-0466, by one of the following methods:

•Federal eRulemaking Portal: http://www.regulations.gov. Follow the online instructions for submitting comments. Do not submit electronically any information you consider to be Confidential Business Information (CBI) or other information whose disclosure is restricted by statute.

•Mail: OPP Docket, Environmental Protection Agency Docket Center (EPA/DC), (28221T), 1200 Pennsylvania Ave. NW., Washington, DC 20460-0001.

•Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW., Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from pesticide registrants to cancel certain pesticide products and amend product registrations to terminate certain uses. The affected products and the registrants making the requests are identified in Tables 1A-3 of this unit.

Unless a request is withdrawn by the registrant or if the Agency determines that there are substantive comments that warrant further review of this request, EPA intends to issue an order in the Federal Register canceling and amending the affected registrations. The cancellations of products listed in Table 1B will be effective December 31, 2020. The requests to cancel these products would terminate the last Spirodiclofen products registered for use in the United States.

Table 1A—Product Registrations With Pending Requests for Cancellation
Registration No. | Company No. | Product name | Active ingredient
211-25 | 211 | Pheno Cen Germicidal Detergent | Potassium 2-benzyl-4-chlorophenate; o-Phenylphenol, potassium salt; & p-tert-Amylphenol, potassium salt.
211-32 | 211 | Pheno-Cen Spray Disinfectant/Deodorant | Ethanol; & o-Phenylphenol (NO INERT USE).
211-36 | 211 | Tri-Cen | Sodium 2-benzyl-4-chlorophenate; o-Phenylphenol, sodium salt; & p-tert-Amylphenol, sodium salt.
211-62 | 211 | Low PH Phenolic 256 | 2-Benzyl-4-chlorophenol; & o-Phenylphenol (NO INERT USE).
769-989 | 769 | AllPro Mosquito Barrier Spray | Permethrin.
875-183 | 875 | Divosan MH | Iodine.
1677-22 | 1677 | Mikroklene | Oxirane, methyl-, polymer with oxirane, monobutyl ether, compound with iodine; & Phosphoric acid.
1677-58 | 1677 | Mikroklene DF | Oxirane, methyl-, polymer with oxirane, monobutyl ether, compound with iodine; & Phosphoric acid.
1677-89 | 1677 | Bac-Flush | Iodine; & Phosphoric acid.
2217-617 | 2217 | Garden Weeder | DCPA (or chlorthal-dimethyl?).
3862-18 | 3862 | Germ-I-San | Nonylphenoxypolyethoxyethanol-iodine complex; & Phosphoric acid.
4787-40 | 4787 | Chlorpyrifos Technical | Chlorpyrifos.
4787-41 | 4787 | Nufos Technical | Chlorpyrifos.
4787-51 | 4787 | Cheminova Abamectin Technical | Abamectin.
4787-62 | 4787 | Chlorpyrifos Technical II | Chlorpyrifos.
5383-114 | 5383 | Polyphase HS32 | Propiconazole; & Carbamic acid, butyl-, 3-iodo-2-propynyl ester.
5383-120 | 5383 | Polyphase Micro HS30 | Propiconazole; & Carbamic acid, butyl-, 3-iodo-2-propynyl ester.
7616-81 | 7616 | Kem Tek Spa Kem Floating Brominator | Bromochloro-5-ethyl-5-methyl-2,4-imidazolidinedione.
9480-7 | 9480 | Sani-Wipe | Isopropyl alcohol; & Alkyl* dimethyl benzyl ammonium chloride *(67%C12, 25%C14, 7%C16, 1%C8, C10, and C18).
9688-127 | 9688 | Chemsico Total Release Fogger K | MGK 264; Pyrethrins; & Piperonyl butoxide.
10088-23 | 10088 | Spa Concentrated Swimming Pool Algaecide-Pool Side Surface Germicide | Alkyl* dimethyl benzyl ammonium chloride *(60%C14, 30%C16, 5%C18, 5%C12); & Alkyl* dimethyl ethylbenzyl ammonium chloride *(68%C12, 32%C14).
10088-29 | 10088 | CD Cleaner Disinfectant Deodorizer Fungicide | Alkyl* dimethyl benzyl ammonium chloride *(60%C14, 30%C16, 5%C18, 5%C12); & Alkyl* dimethyl ethylbenzyl ammonium chloride *(68%C12, 32%C14).
10088-42 | 10088 | 10% Liquid Sanitizer Disinfectant | Alkyl* dimethyl benzyl ammonium chloride *(60%C14, 30%C16, 5%C18, 5%C12); & Alkyl* dimethyl ethylbenzyl ammonium chloride *(68%C12, 32%C14).
10088-52 | 10088 | Lemon Scented Disinfectant Cleaner | Alkyl* dimethyl benzyl ammonium chloride *(60%C14, 30%C16, 5%C18, 5%C12); & Alkyl* dimethyl ethylbenzyl ammonium chloride *(68%C12, 32%C14).
10088-103 | 10088 | A-Plus Germicidal Spray & Wipe Cleaner | Alkyl* dimethyl benzyl ammonium chloride *(60%C14, 30%C16, 5%C18, 5%C12); & Alkyl* dimethyl ethylbenzyl ammonium chloride *(68%C12, 32%C14).
10088-104 | 10088 | Mis-Tery Household Disinfectant and Deodorizer Spray | Ethanol; 4-tert-Amylphenol; & o-Phenylphenol (NO INERT USE).
10088-105 | 10088 | C-Spray Disinfectant Deodorant | Ethanol; 4-tert-Amylphenol; & o-Phenylphenol (NO INERT USE).
10163-185 | 10163 | Prokil Cryolite WDG | Cryolite.
10324-130 | 10324 | Maquat MC1416-10% CTP | Alkyl* dimethyl benzyl ammonium chloride *(60%C14, 30%C16, 5%C18, 5%C12).
33955-474 | 33955 | Acme Garden Weed Preventer Granules | DCPA (or chlorthal-dimethyl?).
33955-509 | 33955 | Acme Garden Weed Preventer Spray | DCPA (or chlorthal-dimethyl?).
34810-8 | 34810 | Wex-Cide Concentrated Germicidal Detergent | 2-Benzyl-4-chlorophenol; & o-Phenylphenol (NO INERT USE).
39039-15 | 39039 | Y-Tex Co-Ral Livestock Dust | Coumaphos.
39444-9 | 39444 | Micropur MP | Silver.
39444-12 | 39444 | Virustat Microbial Water Purification Cartridge | Iodine.
47000-91 | 47000 | TR-1 Total Release Fogger | MGK 264; Pyrethrins; & Permethrin.
47000-95 | 47000 | Fly Bomb 5-1-1 | MGK 264; Pyrethrins; & Piperonyl butoxide.
47000-144 | 47000 | Co-Ral Coumaphos 25% Dust Base | Coumaphos.
51147-5 | 51147 | Benzyl Benzoate | Benylate.
53345-3 | 53345 | Ercocide C | Sodium chlorate.
53345-4 | 53345 | Ercocide S | Sodium chlorate.
59820-5 | 59820 | Benzyl Benzoate Miticide Technical | Benylate.
70385-7 | 70385 | Clean Carpet Sanitizer | 2-Benzyl-4-chlorophenol; 4-tert-Amylphenol; & o-Phenylphenol (NO INERT USE).
CA-120002 | 100 | Heritage Fungicide | Azoxystrobin.
NJ-980001 | 70506 | Ziram 76DF Fungicide | Ziram.
WA-090014 | 71297 | AFxRD-038 | 1-Methylcyclopropene.

Table 1B—Product Registrations With Pending Requests for Cancellation
Registration No. | Company No. | Product name | Active ingredient
264-830 | 264 | Spirodiclofen Technical | Spirodiclofen.
264-831 | 264 | Envidor 2 SC | Spirodiclofen.

Table 2—Product Registrations With Pending Requests for Amendment
Registration No. | Company No. | Product name | Active ingredient | Uses to be terminated
264-718 | 264 | Spiromesifen Technical | Spiromesifen | Succulent shelled, edible-podded & dry shelled beans; & bulb vegetables (crop group 3-07).
400-577 | 400 | Belmont 2.7 FS | Metalaxyl | Seed Treatment Uses: Canola, mustard seed, rapeseed cucurbit vegetables: chayote (fruit), Chinese waxgourd, citron melon, gherkin, edible gourd (includes hyotan, cucuzza, Chinese okra, and hechima), momordica spp. (includes balsam apple, balsam pear, bitter melon, Chinese cucumber), muskmelon (includes true cantaloupe, cantaloupe, casaba, crenshaw melon, golden pershaw melon, honeydew melon, honey balls, mango melon, Persian melon, pineapple melon, Santa Claus melon, and snake melon), pumpkin, summer squash (includes crookneck squash, scallop squash, straightneck squash, vegetable marrow, zucchini), winter squash (includes butternut squash, calabaza, hubbard squash), cucumis mixtar, cucumis pepo (includes acorn squash, spaghetti squash), watermelon (includes hybrids and/or varieties of citrullus lanatus).
|  |  |  | Leafy Vegetables: Amaranth (leafy, Chinese spinach**, tampala), cardoon, celery (including Chinese), celtuce, chervil, chrysanthemum (edible-leaved and garland), corn salad, cress (garden and upland), dandelion, dock, endive, fennel (finochio), lettuce (head and leaf), orach, parsley, purslane (garden and winter), radicchio, rhubarb, and Swiss chard, brassica (cole) head, stem and leafy vegetables broccoli (including Chinese and raab), Brussels sprouts, cabbage (including Chinese bok choy, Chinese napa and mustard), cauliflower, cavalo broccoli, collards, kale, kohlrabi, mizuna, mustard greens, mustard spinach, and rape greens.
|  |  |  | Fruiting Vegetables: Eggplant, groundcherry, pepino, pepper (including bell pepper, chili pepper, cooking pepper, pimento, sweet pepper), tomatillo, and tomato.
|  |  |  | Onions (dry bulb and green): Root and Tuber Vegetables: Arracacha, arrowroot, artichoke (Chinese and Jerusalem), burdock (edible), canna (edible), cassava (bitter and sweet), celery root, chayote, chervil, chicory, chufa, dasheen, ginger, ginseng, horseradish, leren, parsley (turnip-rooted), parsnip, radish (includes oriental dalkon), rutabaga, salsify (includes black and Spanish), skirret, sweet potato, tanier, turmeric, turnip, yam bean (jicama, manioc pea), yam.
5383-104 | 5383 | Troy Mergal K14 | 5-Chloro-2-methyl-3(2H)-isothiazolone; & 2-Methyl-3(2H)-isothiazolone | Metal working fluids.
10807-199 | 10807 | Misty Dualcide P3 RTU | Permethrin | Adult mosquito control section.
19713-156 | 19713 | Drexel Captan 4L Fungicide | Captan | Turf, sod farm, golf course, lawn seedbed, soil and greenhouse bench treatment.
19713-235 | 19713 | Drexel Captan 50W | Captan | Turf, sod farm, golf course, lawn seedbed, soil and greenhouse bench treatment.
19713-258 | 19713 | Drexel Captan Technical | Captan | Turf (golf courses), sod farms, soil seedbeds and greenhouse bench treatments.
19713-268 | 19713 | Drexel Kaptan 50W | Captan | Turf, sod farm, golf course, lawn seedbed, soil and greenhouse bench treatment.
19713-362 | 19713 | Drexel 80% Captan | Captan | Turf, sod farm, golf course, lawn seedbed, soil and greenhouse bench treatment.
19713-385 | 19713 | Drexel 80% Kaptan | Captan | Turf, sod farm, golf course, lawn seedbed, soil and greenhouse bench treatment.
19713-405 | 19713 | Drexel Captan 80 EDF | Captan | Turf, sod farm, golf course, lawn seedbed, soil and greenhouse bench treatment.
19713-500 | 19713 | Drexel Captan Technical Two | Captan | Seedbeds and greenhouse bench treatments.
19713-631 | 19713 | Drexel Captan Technical 97% | Captan | Turf (golf courses), sod farms, soil seedbeds and greenhouse bench treatments.
19713-644 | 19713 | DCC Captan 4L (Alternate name: Captan 4L) | Captan | Turf, sod farm, golf course, lawn seedbed, soil and greenhouse bench treatment.
19713-646 | 19713 | Drexel Captan 50W Fungicide | Captan | Turf, sod farm, golf course, lawn seedbed, soil and greenhouse bench treatment.
19713-652 | 19713 | Drexel Captan 80 WDG | Captan | Turf, sod farm, golf course, lawn seedbed, soil and greenhouse bench treatment.
33658-33 | 33658 | Reality Termiticide/Insecticide | Permethrin | Agricultural crop use directions section.
34704-427 | 34704 | Captan 50-W | Captan | Soil and greenhouse bench treatment.
34704-1075 | 34704 | Captan 80 WDG | Captan | Grasses (ornamental in non-pastured areas)/turf (golf course), (lawn seedbeds)/turf (sod farms), soil and greenhouse bench treatment.
34704-1076 | 34704 | Captan 4L | Captan | Grasses (ornamentals in non-pastured areas and lawn seedbeds), soil, and greenhouse bench treatment.
42750-145 | 42750 | Imazethapyr TGAI | Imazethapyr | Clearfield rice.
42750-146 | 42750 | Imazeth 2SC | Imazethapyr, ammonium salt | Clearfield rice.
64321-1 | 64321 | Bio Kill Brand Insecticide | Permethrin | Food crops.
66675-3 | 66675 | CS 2005—(Magna-Bon Bahama Klear)-Alternate | Copper sulfate pentahydrate | Swimming pool, outdoor hot tub and spa usages, and post-harvest fruit and vegetable wash.
91232-3 | 91232 | FD Tebuconazole 3.6F | Tebuconazole | Seed treatment use on corn.

Table 3 of this unit includes the names and addresses of record for the registrants of the products listed in Table 1A, Table 1B and Table 2 of this unit, in sequence by EPA company number. This number corresponds to the first part of the EPA registration numbers of the products listed in Table 1A, Table 1B and Table 2 of this unit.

Table 3—Registrants Requesting Voluntary Cancellation and/or Amendments
EPA Company No. | Company name and address
100 | Syngenta Crop Protection, LLC, 410 Swing Road, P.O. Box 18300, Greensboro, NC 27419-8300.
211 | Central Solutions, Inc., 401 Funston Road, Kansas City, KS 66115.
264 | Bayer CropScience, LP, 2 T.W. Alexander Drive, P.O. Box 12014, Research Triangle Park, NC 27709.
400 | MacDermid Agricultural Solutions, Inc., C/O Arysta LifeScience North America, LLC, 15401 Weston Parkway, Suite 150, Cary, NC 27513.
769 | Value Gardens Supply, LLC, D/B/A Value Garden Supply, Agent Name: JM Specialty Consulting, LLC, 44 Pine Lane Ranch Road, Laurel, MS 39443.
875 | Diversey, Inc., 1410 Newman Road, Racine, WI 53406.
1677 | Ecolab, Inc., 1 Ecolab Place, St. Paul, MN 55102.
2217 | PBI/Gordon Corp., 1217 West 12th Street, P.O. Box 014090, Kansas City, MO 64101-0090.
3862 | ABC Compounding Co., Inc., P.O. Box 80729, Conyers, GA 30013.
4787 | Cheminova A/S, Agent Name: FMC Corporation, 1735 Market Street, Room 1971, Philadelphia, PA 19103.
5383 | Troy Chemical Corporation, Agent Name: Troy Corporation, 8 Vreeland Road, Florham Park, NJ 07932.
7616 | Kik Pool Additives, Inc., Agent Name: Delta Analytical Corporation, 12510 Prosperity Drive, Suite 160, Silver Spring, MD 20904.
9480 | Professional Disposables International, Inc., Agent Name: Delta Analytical Corp., 12510 Prosperity Drive, Suite 160, Silver Spring, MD 20904.
9688 | Chemsico, A Division of United Industries Corp., P.O. Box 142642, St. Louis, MO 63114-0642.
10088 | Athea Laboratories, Inc., P.O. Box 240014, Milwaukee, WI 53224.
10163 | Gowan Company, P.O. Box 5569, Yuma, AZ 85366.
10324 | Mason Chemical Company, 723 W. Algonquin Rd., Suite B, Arlington Heights, IL 60005.
10807 | Amrep, Inc., Agent Name: Zep, Inc. C/O Compliance Services, 1259 Seabord Industrial Blvd. NW., Atlanta, GA 30318.
19713 | Drexel Chemical Company, P.O. Box 13327, Memphis, TN 38113-0327.
33658 | Gharda Chemicals Limited, Agent Name: IPM Resources, LLC, 4032 Crockers Lake Blvd., Ste. 818, Sarasota, FL 34238.
33955 | PBI/Gordon Corp., 1217 West 12th Street, P.O. Box 014090, Kansas City, MO 64101-0090.
34704 | Loveland Products, Inc., P.O. Box 1286, Greeley, CO 80632-1286.
34810 | Wexford Labs, Inc., 325 Leffingwell Ave., Kirkwood, MI 63122.
39039 | Y-Tex Corporation, 1825 Big Horn Avenue, Cody, WY 82414.
39444 | Katadyn Produkte, D/B/A Katadyn Products, Inc., Agent Name: Regwest Company, LLC, 8203 West 20th Street, Suite A, Greeley, CO 80634-4696.
42750 | Albaugh, LLC, P.O. Box 2127, Valdosta, GA 31604-2127.
47000 | Chem-Tech, Ltd., 110 Hopkins Drive, Randolph, WI 53956.
51147 | Vertellus, LLC, 201 N. Illinois Street, Suite 1800, Indianapolis, IN 46204.
53345 | Erco Worldwide, Agent Name: Lewis & Harrison, LLC, 122 C Street NW., Suite 505, Washington, DC 20001.
59820 | Allergopharma Joachim, Agent Name: Brazos Associates, Inc., 621 West 4th Street, Cordell, OK 73632.
64321 | Jesmond Holding AG, Agent Name: Registrations by Design, Inc., P.O. Box 1019, Salem, VA 24153-3805.
66675 | Magna-Bon II, LLC, 1531 NW 25th Drive, Okeechobee, FL 34972.
70385 | ProRestore Products, Agent Name: Lewis & Harrison, LLC, 122 C Street NW., Suite 505, Washington, DC 20001.
70506 | United Phosphorus, Inc., 630 Freedom Business Center, Suite 402, King of Prussia, PA 19406.
71297 | AgroFresh, Inc., 400 Arcola Road, P.O. Box 7000, Collegeville, PA 19426.
91232 | Fengdeng USA, Inc., 123 Cornell Road, Bala Cynwyd, PA 19004.

III. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1A, 1B and 2 of Unit II.

A. For Products 211-25, 211-32, 211-36, 211-62 and 34810-8

The registrant has requested to the Agency via letter to sell existing stocks for an 18-month period for products 211-25, 211-32, 211-36, 211-62 and 34810-8.

B. For the Products Listed in Table 1b, 264-830 and 264-831

As there are no risk concerns for these products, after December 31, 2020, the registrant will be prohibited from producing, selling, or distributing existing stocks of products containing Spirodiclofen.

C. For Products 47000-91, 47000-95 and 47000-144

The registrant has requested to the Agency via letter to manufacture and/or distribute existing stocks for a 24-month period starting the date of the request which was April 25, 2017 for products 47000-91 and 47000-95, and June 28, 2017 for product 47000-144.

For all other voluntary product cancellations identified in Table 1A of Unit II, registrants will be permitted to sell and distribute existing stocks of voluntarily canceled products for 1 year after the effective date of the cancellation, which will be the date of publication of the cancellation order in the Federal Register. Thereafter, registrants will be prohibited from selling or distributing the products identified in Table 1A of Unit II, except for export consistent with FIFRA section 17 (7 U.S.C. 136o) or for proper disposal.

Once EPA has approved product labels reflecting the requested amendments to terminate uses identified in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: September 8, 2017.
Delores Barber,
Director, Information Technology and Resources Management Division, Office of Pesticide Programs.

[FR Doc. 2017-21244 Filed 10-2-17; 8:45 am]

BILLING CODE 6560-50-P